DEPARTMENT OF COMMERCE

National Oceanic and Atmospheric Administration

RIN 0648-XF183

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Endangered Species Workgroup will hold a meeting, which is open to the public. Members of the public can participate: in person; via teleconference; and/or through “Go To Meeting.”

DATES: The meeting will begin at 9 a.m. on Wednesday, February 15, 2017 and again at 9 a.m. on Thursday, February 16 and continue until business is finished on each day.

ADDRESSES: The meeting will be held at the Regional Administrator's Conference Room, Building 1, National Oceanic and Atmospheric Administration, Western Regional Center, 7600 Sand Point Way NE., Seattle, WA 98115-6349, telephone: (206)-526-6150. Members of the public who wish to attend the meeting in person must contact Mr. Kevin Duffy; email: kevin.duffy@noaa.gov; phone: (206) 526-4743, at least one week prior to the meeting to arrange entrance to this NOAA facility.

Council address: Pacific Council, 7700 NE Ambassador Place, Suite 101, Portland, OR 97220-1384.

FOR FURTHER INFORMATION CONTACT: Dr. Kit Dahl, Pacific Council, at (503) 820-2422; toll-free 1-866-806-7204.

SUPPLEMENTARY INFORMATION: The primary purpose of the meeting is to review recent information on take of species listed under the Endangered Species Act (ESA) in the Pacific Coast groundfish fishery (other than salmonids) and provide recommendations to the Pacific Council on any additional mitigation measures needed, to meet the requirements of the ESA, as implemented through the terms and conditions in the most recent biological opinion for the fishery.

Members of the public can participate via GoToMeeting and/or via teleconference. For GoToMeeting access, please join my GoToMeeting: https://global.gotomeeting.com/join/786288157. Please note the teleconference line for this meeting includes a different phone number and participant pass code for each day.

For Wednesday, February 15, the Phone number is: 1-888-790-6085.

Participant Passcode: 1730793#.

For Thursday, February 16, the Phone number is: 1-888-283-0166.

Participant Passcode: 4432591#.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2425 at least 5 days prior to the meeting date.

Dated: January 30, 2017.
Tracey L. Thompson,
Acting Deputy Director, Office of Sustainable Fisheries, National Marine Fisheries Service.

[FR Doc. 2017-02196 Filed 2-1-17; 8:45 am]

BILLING CODE 3510-22-P